DEPARTMENT OF ENERGY

Federal Energy Regulatory Commission

Staff Notice of Alleged Violations

Take notice ¹ that in a nonpublic investigation pursuant to 18 CFR part 1b (2015), the staff of the Office of Enforcement of the Federal Energy Regulatory Commission has preliminarily determined that Berkshire Power Company LLC (Berkshire) and Powerplant Management Services LLC violated the Commission's Anti-Manipulation Rule, 18 CFR 1c.2 (2015) by engaging in a manipulative scheme to conceal maintenance work and associated outages beginning at least as early as January 2008 and continuing through March 2011.

¹ Enforcement of Statutes, Regulations, and Orders, 129 FERC ¶ 61,247 (2009), order on reh'g, 134 FERC ¶ 61,054 (2011).

Staff also has preliminarily determined that Berkshire violated Commission-approved reliability standards by failing to provide outage information to its Transmission Operator and failing to inform its Transmission Operator and Host Balancing Authority of all generation resources available for use.

Finally, Staff also has preliminarily determined that Berkshire violated Commission regulations 35.41(a) by failing to comply with various provisions of the ISO-New England (ISO-NE) Tariff and § 35.41(b) by making false and misleading statements to ISO-NE regarding its maintenance work and associated outages.

This notice does not confer a right on third parties to intervene in the investigation or any other right with respect to the investigation.

Dated: October 23, 2015.
Nathaniel J. Davis, Sr.,
Deputy Secretary.

[FR Doc. 2015-27674 Filed 10-29-15; 8:45 am]

BILLING CODE 6717-01-P